FEDERAL COMMUNICATIONS COMMISSION

[FR ID 88210]

Deletion of Item From May 19, 2022 Open Meeting

May 17, 2022.

The following item was released by the Commission on May 17, 2022 and deleted from the list of items scheduled for consideration at the Thursday, May 19, 2022, Open Meeting. The item was previously listed in the Commission's Sunshine Notice on Thursday, May 12, 2022.

5 | ENFORCEMENT | TITLE: Enforcement Bureau Action. SUMMARY: The Commission will consider an enforcement action.

Federal Communications Commission.
Marlene Dortch,
Secretary.

[FR Doc. 2022-11087 Filed 5-23-22; 8:45 am]

BILLING CODE